DEPARTMENT OF THE INTERIOR

Bureau of Safety and Environmental Enforcement

[Docket ID BSEE-2013-0012; OMB Control Number 1014-0022; 134E1700D2 EEEE500000 ET1SF0000.DAQ000]

Information Collection Activities: General; Proposed Collection; Comment Request

ACTION: 60-day Notice.

SUMMARY: To comply with the Paperwork Reduction Act of 1995 (PRA), Bureau of Safety and Environmental Enforcement (BSEE) is inviting comments on a collection of information that we will resubmit to the Office of Management and Budget (OMB) for review and approval. The resubmission of this information collection request (ICR) is necessary to include a form that we developed to clarify and facilitate submission of certain voluntary paperwork requirements in the regulations under Subpart A, General. The new form is BSEE-0011 and entails no additional information collection burden to that already approved by OMB for the Subpart A regulations.

DATES: You must submit comments by January 17, 2014.

ADDRESSES: You may submit comments by either of the following methods listed below.

• Electronically: go to http://www.regulations.gov. In the Search box, enter BSEE-2013-0012 then click search. Follow the instructions to submit public comments and view all related materials. We will post all comments.

• Email cheryl.blundon@bsee.gov. Mail or hand-carry comments to the Department of the Interior; BSEE; Regulations and Standards Branch; Attention: Cheryl Blundon; 381 Elden Street HE3313; Herndon, Virginia 20170-4817. Please reference ICR 1014-0022 in your comment and include your name and return address.

FOR FURTHER INFORMATION CONTACT: Cheryl Blundon, Regulations and Standards Branch at (703) 787-1607 to request additional information about this ICR.

SUPPLEMENTARY INFORMATION: Title: 30 CFR 250, Subpart A, General.

OMB Control Number: 1014-0022.

Form(s): BSEE-0011.

Abstract: The Outer Continental Shelf (OCS) Lands Act, as amended (43 U.S.C. 1331 et seq. and 43 U.S.C. 1801 et seq.), authorizes the Secretary of the Interior to prescribe rules and regulations necessary for the administration of the leasing provisions of the Act related to mineral resources on the OCS. Such rules and regulations will apply to all operations conducted under a lease, right-of-way, or a right-of-use and easement. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Section 1332(6) states that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.”

In addition to the general rulemaking authority of the OCSLA at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to BSEE, 30 U.S.C. 1751 is included as additional authority for these requirements.

These authorities and responsibilities are among those delegated to the Bureau of Safety and Environmental Enforcement (BSEE). The regulations at 30 CFR 250, Subpart A, concern the general regulatory requirements of the oil, gas, and sulphur operations on the OCS. This specific collection pertains to a new form, BSEE-0011, iSEE, Internet-Based Safety and Environmental Enforcement Reporting System, that was created to clarify what information is needed when someone reports an apparent violation. Regulations governing reports and investigations of possible violations are covered under § 250.193 and are for the most part,

(a) Any person may report to BSEE any hazardous or unsafe working condition on any facility engaged in OCS activities, and any possible violation or failure to comply with:

(1) Any provision of the Act,

(2) any provision of a lease, approved plan, or permit issued under the Act,

(3) any provision of any regulation or order issued under the Act, or

(4) any other Federal law relating to safety of offshore oil and gas operations.

(b) To make a report under this section, a person is not required to know whether any legal requirement listed in (a) has been violated.

(c) When BSEE receives a report of a possible violation, or when a BSEE employee detects a possible violation, BSEE will investigate according to BSEE procedures.

Regulations at 30 CFR 250, Subpart A, implement these statutory requirements. We use the information to investigate potential violations related to OCS activities.

BSEE developed a new form that respondents must use to submit certain information collection requirements under § 250.193. This form entails no additional burden as it only clarifies and facilitates the submission of the currently approved information collection requirements to which the form pertains. This resubmitted ICR is revised to only include the new Form BSEE-0011, iSEE, Internet-Based Safety and Environmental Enforcement Reporting System. No burden hours have been changed from the currently OMB approved collection. The information on BSEE-0011 is as follows: The first 4 parts of the form are for the purposes of asking follow-up questions if necessary—First and Last Name, Email Address, Phone number.

—The Category of Information section is used to specify what type of potential violation is being reported so that it can be routed internally to the appropriate BSEE personnel.

—The Region drop down menu is used to specify which region the potential violation occurred in so that it can be routed internally to the appropriate BSEE personnel.

—The Location Information provides BSEE with the ability to locate (using various data options as entered by the reporting party) where the potential violation took place. We request, Company Name, Area Block, Lease Number, Production Facility Name, Drilling Rig Name, GPS Coordinate Latitude and Longitude, Other, if this information is known.

—Date of Offense—self-explanatory.

—Detailed Description of Problem or Event—self-explanatory.

We will protect personally identifiable information about individuals according to the Privacy Act (5 U.S.C. 552a) and DOI's implementing regulations (43 CFR 2). We will also protect proprietary information under the Freedom of Information Act (5 U.S.C. 552), DOI's implementing regulations (43 CFR 2); as well as 30 CFR 250.197, Data and information to be made available to the public or for limited inspection, and 30 CFR 252, OCS Oil and Gas Information Program.

Frequency: On occasion.

Description of Respondents: Potential respondents comprise Federal oil, gas, or sulphur lessees, operators and/or the general public.

Estimated Reporting and Recordkeeping Hour Burden: The currently approved annual reporting burden for this one requirement is 9 hours and continues to remain the same in this request. The following chart details the individual components and respective hour burden estimates of this ICR. In calculating the burdens, we assumed that respondents perform certain requirements in the normal course of their activities. We consider these to be usual and customary and took that into account in estimating the burden.

Citation 30 CFR 250 Subpart A | Reporting or recordkeeping requirement | Hour burden
193; Form BSEE-0011 | Report apparent violations or non-compliance | 1.5

Estimated Reporting and Recordkeeping Non-Hour Cost Burden: We have identified no non-hour cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “. . . to provide notice . . . and otherwise consult with members of the public and affected agencies concerning each proposed collection of information . . .”. Agencies must specifically solicit comments to: (a) Evaluate whether the collection is necessary or useful; (b) evaluate the accuracy of the burden of the proposed collection of information; (c) enhance the quality, usefulness, and clarity of the information to be collected; and (d) minimize the burden on the respondents, including the use of technology.

Agencies must also estimate the non-hour paperwork cost burdens to respondents or recordkeepers resulting from the collection of information. Therefore, if you have other than hour burden costs to generate, maintain, and disclose this information, you should comment and provide your total capital and startup cost components or annual operation, maintenance, and purchase of service components. For further information on this burden, refer to 5 CFR 1320.3(b)(1) and (2), or contact the Bureau representative listed previously in this notice.

We will summarize written responses to this notice and address them in our submission for OMB approval. As a result of your comments, we will make any necessary adjustments to the burden in our submission to OMB.

The form BSEE-0011 is as follows:

BILLING CODE 4310-22-P

Public Comment Procedures: Before including your address, phone number, email address, or other personal identifying information in your comment, you should be aware that your entire comment—including your personal identifying information—may be made publicly available at any time. While you can ask us in your comment to withhold your personal identifying information from public review, we cannot guarantee that we will be able to do so.

Dated: November 7, 2013.
Robert W. Middleton,
Deputy Chief, Office of Offshore Regulatory Programs.

[FR Doc. 2013-27531 Filed 11-15-13; 8:45 am]

BILLING CODE 4310-VH-C